DEPARTMENT OF THE INTERIOR

Minerals Management Service

[Docket No. MMS-2009-OMM-0012]

MMS Information Collection Activity: 1010-0176, Renewable Energy and Alternate Uses of Existing Facilities on the Outer Continental Shelf Forms, Extension of a Collection; Comment Request

AGENCY: Minerals Management Service (MMS), Interior.

ACTION: Notice of extension of an information collection (1010-0176).

SUMMARY: To comply with the Paperwork Reduction Act of 1995 (PRA), MMS is inviting comments on a collection of information that we will resubmit to the Office of Management and Budget (OMB) for review and approval. The resubmission of this information collection request (ICR) is necessary to include forms we have developed to clarify and facilitate submission of certain paperwork requirements in the regulations under 30 CFR 285, Renewable Energy and Alternate Uses of Existing Facilities on the Outer Continental Shelf. The new forms are Forms MMS-0002, MMS-0003, MMS-0004, MMS-0005, and MMS-0006. These forms will entail no additional information collection burden to that already approved by OMB for the 30 CFR 285 regulations.

DATES: Submit written comments by November 23, 2009.

FOR FURTHER INFORMATION CONTACT: Cheryl Blundon, Regulations and Standards Branch at (703) 787-1607. You may also contact Cheryl Blundon or Timothy Redding (703) 787-1219, to obtain a copy, at no cost, of the regulation and the forms that require the subject collection of information. Also, you can view or print the forms via regulations.gov. See the instructions listed in the ADDRESSES section.

ADDRESSES: Follow the instructions under “Electronically” to view or print out the forms that are attached in the supporting and related materials section of the docket. You may submit comments by either of the following methods listed below:

• Electronically: go to http://www.regulations.gov. In the entry titled “Select Document Type”, click Notice in the drop down menu. In the entry titled, “Enter Keyword or ID,” enter docket ID MMS-2009-OMM-0012, then click Search. Look for the subject Information Collection notice and under the Actions column on the right, click the “submit a comment” button. Include your name and return address in your comment. The MMS will post all comments.

• Mail or hand-carry comments to the Department of the Interior; Minerals Management Service; Attention: Cheryl Blundon; 381 Elden Street, MS-4024; Herndon, Virginia 20170-4817. Please reference Information Collection 1010-0176 in your subject line and mark your message for return receipt. Include your name and return address in your comment text.

SUPPLEMENTARY INFORMATION:

Title: 30 CFR 285, Renewable Energy and Alternate Uses of Existing Facilities on the Outer Continental Shelf.

Form(s): MMS-0002, MMS-0003, MMS-0004, MMS-0005, and MMS-0006.

OMB Control Number: 1010-0176.

Abstract: The Outer Continental Shelf (OCS) Lands Act, as amended (43 U.S.C. 1331 et seq. and 43 U.S.C. 1801 et seq.), authorizes the Secretary of the Interior to issue leases, easements, or rights-of-way on the OCS for activities that produce or support production, transportation, or transmission of energy from sources other than oil and gas (renewable energy). Specifically, subsection 8(p) of the OCS Lands Act, as amended by section 388 of the Energy Policy Act of 2005 (Pub. L. 109-58), directs the Secretary of the Interior to issue any necessary regulations to carry out the OCS renewable energy program. The Secretary delegated the authority to issue such regulations and implement an OCS renewable energy program to the Minerals Management Service (MMS).

Under 30 CFR part 285, respondents will operate commercial and noncommercial technology projects that include installation, construction, operation and maintenance, and decommissioning of offshore facilities, as well as possible onshore support facilities. The MMS must ensure that these activities and operations on the OCS are carried out in a safe and pollution-free manner, do not interfere with the rights of other users on the OCS, and balance the protection and development of OCS resources. To do this, MMS needs information concerning the proposed activities, facilities, safety equipment, inspections and tests, and natural and manmade hazards near the site, as well as assurance of fiscal responsibility.

Specifically, MMS will use the information collected under part 285 to:

• Determine if applicants and assignees are qualified to hold leases on the OCS. Information is used to track ownership of leases and right-of-way (ROW) or right of use and easement (RUE), as well as to approve requests to designate an operator to act on the lessee's behalf. Information is necessary to approve assignment, relinquishment, or cancellation requests. Information is used to document that a lease, ROW, or RUE has been surrendered by the record title holder and to ensure that all legal obligations are met and facilities are properly decommissioned.

• Determine if an application for a ROW or RUE serves the purpose specified in the grant.

• Review and approve SAPs, COPs, and GAPs prior to allowing activities to commence on a lease to ensure that the activities will protect human, marine, and coastal environments of the OCS; to review plans for taking safety equipment out of service to ensure alternate measures are used that will properly provide for the safety of the facilities. The MMS inspectors monitor the records concerning facility inspections and tests to ensure safety of operations and protection of the environment and to schedule their workload to permit witnessing and inspecting operations. Provide lessees greater flexibility to comply with regulatory requirements through approval of alternative equipment or procedures and departures to regulations if they demonstrate equal or better compliance with the appropriate performance standards.

• Ensure that, if granted, proposed routes of a ROW or RUE do not conflict with any State requirements or unduly interfere with other OCS activities.

• Determine if all facilities, project easements, cables, pipelines, and obstructions, when they are no longer needed, are properly removed or decommissioned, and that the seafloor is cleared of all obstructions created by operations on the lease, project easement, RUE or ROW.

• Improve safety and environmental protection on the OCS through collection and analysis of accident reports to ascertain the cause of the accidents and to determine ways to prevent recurrences.

Subsequent to the approval of the information collection requirements in the final 30 CFR 285 regulations, MMS developed five new forms that respondents will be required to submit certain information collection requirements in subpart D, Lease and Grant Administration, and subpart E, Payments and Financial Assurance Requirements. These forms entail no additional burden as they only clarify and facilitate the submission of the currently approved information collection requirements to which the forms pertain. This resubmitted information collection request (ICR) is revised only to reflect the inclusion of the new Forms MMS-0002, MMS-0003, MMS-0004, MMS-0005, and MMS-0006.

We will protect information from respondents considered proprietary under the Freedom of Information Act (5 U.S.C. 552) and its implementing regulations (43 CFR part 2) and under regulations at 30 CFR 285.113, How will data and information obtained by MMS under this part be disclosed to the public? No items of a sensitive nature are collected. Responses are mandatory or are required to obtain or retain a benefit.

Frequency: Varies depending upon the requirement, but usually on occasion or annual.

Description of Respondents: Primary respondents comprise Federal OCS companies that submit unsolicited proposals or responses to Federal Register notices; or are lessees, designated operators, and ROW or RUE grant holders. Other potential respondents are companies or State and local governments that submit information or comments relative to alternative energy-related uses of the OCS; certified verification agents (CVAs); and surety or third-party guarantors.

Estimated Reporting and Recordkeeping Hour Burden: The currently approved annual reporting burden for this collection is 31,124 hours. The following chart details the individual components and respective hour burden estimates of this ICR. In calculating the burdens, we assumed that respondents perform certain requirements in the normal course of their activities. We consider these to be usual and customary and took that into account in estimating the burden.

Section(s) in 30 CFR 285 | Reporting and recordkeeping requirement | Hour burden: Non-hour cost burdens
Subpart A—General Provisions
102; 105; 110 | These sections contain general references to submitting comments, requests, applications, plans, notices, reports, and/or supplemental information for MMS approval—burdens covered under specific requirements.
102(e) | State and local governments enter into task force or joint planning or coordination agreement with MMS | 1.
103; 904 | Request general departures not specifically covered elsewhere in part 285 | 2.
105(c) | Make oral requests or notifications and submit written follow up within 3 business days not specifically covered elsewhere in part 285 | 1.
106; 107; 212(f); 230(f); 302(a); 408(b)(7); 409(c); 1005(c); 1007(c); 1013(b)(7) | Submit evidence of qualifications to hold a lease or grant, required information and supporting information | 2.
106(b)(1) | Request exception from exclusion or disqualification from participating in transactions covered by Federal non-procurement debarment and suspension system | 1.
106(b)(2), (3); 225; 527(c); 705(b)(2); 1016 | Request reconsideration and/or hearing | Requirement not considered IC under 5 CFR 1320.3(h)(9).
108; 530(b) | Notify MMS within 3-business days after learning of any action filed alleging respondent is insolvent or bankrupt | 1.
109 | Notify MMS in writing of merger, name change, or change of business form no later than 120 days after earliest of either the effective date or filing date | Requirement not considered IC under 5 CFR 1320.3(h)(1).
111 | Within 30 days of receiving bill, submit processing fee payments for MMS document or study preparation to process applications and requests | .5. $4,000 per study.
111(b)(2), (3) | Submit comments on proposed processing fee or request approval to perform or directly pay contractor for all or part of any document, study, or other activity, to reduce MMS processing costs | 2.
111(b)(3) | Perform, conduct, develop, etc., all or part of any document, study, or other activity; and provide results to MMS to reduce MMS processing fee | 19,000.
111(b)(3) | Pay contractor for all or part of any document, study, or other activity, and provide results to MMS to reduce MMS processing costs | $950,000 per payment.
111(b)(7); 118(a); 436(c) | Appeal MMS estimated processing costs, decisions, or orders pursuant to 30 CFR 290 | Exempt under 5 CFR 1320.4(a)(2), (c).
113(b) | Respondents submit agreement to allow MMS to disclose the data and information exempt from disclosure under the Freedom of Information Act | 4.
115(c) | Request approval to use later edition of a document incorporated by reference or alternative compliance | 1.
116 | The Director may occasionally request information to administer and carry out the offshore alternative energy program via Federal Register Notices | 4.
118(c); 225(b) | Within 15 days of bid rejection, request reconsideration of bid decision or rejection | Requirement not considered IC under 5 CFR 1320.3(h)(9).
Subpart B—Issuance of OCS Alternative Energy Leases
200; 224; 231; 235; 236; 238 | These sections contain references to information submissions, approvals, requests, applications, plans, payments, etc., the burdens for which are covered elsewhere in part 285.
210; 211(a), (b), (c); 213 thru 216 | Submit comments in response to Federal Register notices on Request for Interest in OCS Leasing, Call for Information and Nominations (Call), Area Identification, and the Proposed Sale Notice | 4.
211(d); 216; 220 thru 223; 231(c)(2) | Submit bid, payments, and required information in response to Federal Register Final Sale Notice | 5.
224 | Within 10 business days, execute 3 copies of lease form and return to MMS with required payments, including evidence that agent is authorized to act for bidder; if applicable, submit information to support delay in execution | 1.
230; 231(a) | Submit unsolicited request and acquisition fee for a commercial or limited lease | 5.
231(b) | Submit comments in response to Federal Register notice re interest of unsolicited request for a lease | 4.
231(g), (h) | Submit decision to accept or reject terms and conditions of noncompetitive lease | 2.
235(b); 236(b) | Request additional time to extend preliminary or site assessment term of commercial or limited lease, including revised schedule for SAP, COP, or GAP submission | 1.
237(b) | Request lease be dated and effective 1st day of month in which signed | 1.
Subpart C—ROW Grants and RUE Grants for Alternative Energy Activities
306; 309; 315; 316 | These sections contain references to information submissions, approvals, requests, applications, plans, payments, etc., the burdens for which are covered elsewhere in part 285.
302(a); 305; 306 | Submit 1 paper copy and 1 electronic version of a request for a new or modified ROW or RUE and required information, including qualifications to hold a grant | 5.
307; 308(a)(1) | Submit comments on competitive interest in response to Federal Register notice of proposed ROW or RUE grant area or comments on notice of grant auction | 4.
308(a)(2), (b); 315; 316 | Submit bid and payments in response to Federal Register notice of auction for a ROW or RUE grant | 5.
309 | Submit decision to accept or reject terms and conditions of noncompetitive ROW or RUE grant | 2.
Subpart D—Lease and Grant Administration
400; 401; 402; 405; 409; 416, 433 | These sections contain references to information submissions, approvals, requests, applications, plans, payments, etc., the burdens for which are covered elsewhere in part 285.
401(b) | Take measures directed by MMS in cessation order and submit reports in order to resume activities | 100.
405(d) | Submit written notice of change of address | Requirement not considered IC under 5 CFR 1320.3(h)(1).
405(e); Form MMS-0006 | If designated operator (DO) changes, notify MMS and identify new DO for MMS approval | 1.
408 thru 411; Forms MMS-0002 and MMS-0003 | Within 90 days after last party executes a transfer agreement, submit 1 paper copy and 1 electronic version of a lease or grant assignment application, including originals of each instrument creating or transferring ownership of record title, eligibility and other qualifications; and evidence that agent is authorized to execute assignment | 1 (30 minutes per form × 2 forms = 1 hour).
415(a)(1); 416; 420(a), (b); 428(b) | Submit request for suspension and required information no later than 90 days prior to lease or grant expiration | 10.
417(b) | Conduct, and if required pay for, site-specific study to evaluate cause of harm or damage; and submit 1 paper copy and 1 electronic version of study and results | 100. $950,000 per study.
425 thru 428; 652(a) | Request lease or grant renewal no later than 180 days before termination date of your limited lease or grant, or no later than 2 years before termination date of operations term of commercial lease | 6.
435; 658(c)(2); Form MMS-0004 | Submit 1 paper copy and 1 electronic version of application to relinquish lease or grant | 1.
436; 437 | Provide information for reconsideration of MMS decision to contract or cancel lease or grant area | Requirement not considered IC under 5 CFR 1320.3(h)(9).
Subpart E—Payments and Financial Assurance Requirements
An * indicates the primary cites for providing bonds or other financial assurance, and the burdens include any previous or subsequent references throughout part 285 to furnish, replace, or provide additional bonds, securities, or financial assurance. This subpart contains references to other information submissions, approvals, requests, applications, plans, etc., the burdens for which are covered elsewhere in part 285.
500 thru 509; 1011 | Submit payor information, payments and payment information, and maintain auditable records according to subchapter A regulations or guidance | Burdens covered by information collections approved for 30 CFR Subchapter A.
506(c)(4) | Submit documentation of the gross annual generation of electricity produced by the generating facility on the lease—use same form as authorized by the EIA. (Burden covered under DOE/EIA OMB Control Number 1905-0129 to gather info and fill out form. MMS's burden is for submitting a copy.) | 10 min.
510 | Submit application and required information for waiver or reduction of rental or other payment | 1.
* 515; 516(a)(1), (b); 525(a) thru (f) | Execute and provide $100,000 minimum lease-specific bond or other approved security; or increase bond level if required | 1.
* 516(a)(2), (3), (b), (c); 517; 525(a) thru (f) | Execute and provide commercial lease supplemental bonds in amounts determined by MMS | 1.
516(a)(4); 521(c) | Execute and provide decommissioning bond or other financial assurance; schedule for providing the appropriate amount | 1.
517(c)(1) | Submit comments on proposed adjustment to bond amounts | 1.
517(c)(2) | Request bond reduction and submit evidence to justify | 5.
* 520; 521; 525(a) thru (f); Form MMS-0005 | Execute and provide $300,000 minimum limited lease or grant-specific bond or increase financial assurance if required | 1.
525(g) | Surety notice to lessee or ROW/RUE grant holder and MMS within 5-business days after initiating insolvency or bankruptcy proceeding, or Treasury decertifies surety | 1.
* 526 | In lieu of surety bond, pledge other types of securities, including authority for MMS to sell and use proceeds | 2.
526(c) | Provide annual certified statements describing the nature and market value, including brokerage firm statements/reports | 1.
* 527 | Demonstrate financial worth/ability to carry out present and future financial obligations, annual updates, and related or subsequent actions/records/reports, etc | 10.
528 | Provide third-party indemnity; financial information/statements; additional bond info; executed guarantor agreement and supporting information/documentation | 10.
528(c)(6); 532(b) | Guarantor/Surety requests MMS terminate period of liability and notifies lessee or ROW/RUE grant holder, etc | 1.
* 529 | In lieu of surety bond, request authorization to establish decommissioning account, including written authorizations and approvals associated with account | 2.
530 | Notify MMS promptly of lapse in bond or other security/action filed alleging lessee, surety or guarantor et al. is insolvent or bankrupt | 1.
533(a)(2)(ii), (iii) | Provide agreement from surety issuing new bond to assume all or portion of outstanding liabilities | 3.
536(b) | Within 10 business days following MMS notice, lessee, grant holder, or surety agrees to and demonstrates to MMS that lease will be brought into compliance | 16.
Subpart F—Plans and Information Requirements
Two ** indicate the primary cites for Site Assessment Plans (SAPs), Construction and Operations Plans (COPs), and General Activities Plans (GAPs); and the burdens include any previous or subsequent references throughout part 285 to submission and approval. This subpart contains references to other information submissions, approvals, requests, applications, plans, etc., the burdens for which are covered elsewhere in part 285.
** 600(a); 601(a), (b), (c); 605 thru 613 | Within 6 months after issuance of a competitive lease or grant, or within 60 days after determination of no competitive interest, submit 1 paper copy and 1 electronic version of a SAP, including information to assist MMS to comply with NEPA such as hazard info, air quality, and all required information, certifications, etc | 240.
** 600(b); 601(c), (d)(1); 606(b); 618; 620 thru 629; 633 | If requesting an operations term for commercial lease, at least 6 months before the end of site assessment term, submit 1 paper copy and 1 electronic version of a COP, or FERC license application, including information to assist MMS to comply with NEPA such as hazard info, air quality, and all required information, surveys and/or their results, reports, certifications, project easements, supporting data and information, etc | 1,000.
** 600(c); 601(a), (b); 640 thru 648 | Within 6 months after issuance of a competitive lease or grant, or within 60 days after determination of no competitive interest, submit 1 paper copy and 1 electronic version of a GAP, including information to assist MMS to comply with NEPA such as hazard info, air quality, and all required information, surveys and reports, certifications, project easements, etc | 240.
** 601(d)(2); 622; 628(f); 632(b); 634 | Submit revised or modified COPs, including project easements, and all required additional information | 50.
602 ¹ | Until MMS releases financial assurance, respondents must maintain, and provide to MMS if requested, all data and information related to compliance with required terms and conditions of SAP, COP, or GAP | 2.
** 613(d), (e); 616 | Submit revised or modified SAPs and required additional information | 50.
612(b); 647(b) | Noncompetitive leases must submit copy of SAP or GAP consistency certification and supporting documentation | 1.
614(a) | Notify MMS in writing within 30 days of completion of construction and installation activities under SAP | 1.
614(b) | Submit annual report summarizing findings from site assessment activities | 30.
614(c) | Submit annual, or at other time periods as MMS determines, SAP compliance certification, effectiveness statement, recommendations, reports, supporting documentation, etc | 40.
617(a) | Notify MMS in writing before conducting any activities not approved, or provided for, in SAP; provide additional information if requested | 10.
627(c) | Include oil spill response plan as required by part 254. | Burden covered 30 CFR part 254, 1010-0091.
631 | Request deviation from approved COP schedule | 2.
633(b) | Submit annual, or at other time periods as MMS determines, COP compliance certification, effectiveness statement, recommendations, reports, supporting documentation, etc | 80.
634(a) | Notify MMS in writing before conducting any activities not approved or provided for in COP, and provide additional information if requested | 10.
635 | Notify MMS any time commercial operations cease without an approved suspension | 1.
636(a) | Notify MMS in writing no later than 30 days after commencing activities associated with placement of facilities on lease area | 1.
636(b) | Notify MMS in writing no later than 30 days after completion of construction and installation activities | 1.
636(c) | Notify MMS in writing at least 7 days before commencing commercial operations | 1.
** 642(b); 648(e); 655; 658(c)(3) | Submit revised or modified GAPs and required additional information | 50.
651 | Before beginning construction of OCS facility described in GAP, complete survey activities identified in GAP and submit initial findings. This only includes the time involved in submitting the findings; it does not include the survey time as these surveys would be conducted as good business practice | 30.
653(a) | Notify MMS in writing within 30 days of completing installation activities under the GAP | 1.
653(b) | Submit annual report summarizing findings from activities conducted under approved GAP | 30.
653(c) | Submit annual, or at other time periods as MMS determines, GAP compliance certification, recommendations, reports, etc | 40.
655(a) | Notify MMS in writing before conducting any activities not approved or provided for in GAP, and provide additional information if requested | 10.
656 | Notify MMS if at any time approved GAP activities cease without an approved suspension | 1.
658(c)(1) | If after construction, cable or pipeline deviate from approved COP or GAP, notify affected lease operators and ROW/RUE grant holders of deviation and provide MMS evidence of such notices | 3.
659 | Determine appropriate air quality modeling protocol, conduct air quality modeling, and submit 3 copies of air quality modeling report and 3 sets of digital files as supporting information to plans | 70.
Subpart G—Facility Design, Fabrication, and Installation
Three *** indicate the primary cites for the reports discussed in this subpart, and the burdens include any previous or subsequent references throughout part 285 to submitting and obtaining approval. This subpart contains references to other information submissions, approvals, requests, applications, plans, etc., the burdens for which are covered elsewhere in part 285.
*** 700(a)(1), (b), (c); 701 | Submit Facility Design Report, including 1 paper copy and 1 electronic copy of the cover letter, certification statement, and all required information (1-3 paper or electronic copies as specified) | 200.
*** 700(a)(2); (b), (c); 702 | Submit 1 paper copy and 1 electronic copy of a Fabrication and Installation Report, certification statement and all required information | 160.
705(a)(3); 707; 712 | Certified Verification Agent (CVA) conducts independent assessment of the facility design and submits reports to lessee or grant holder and MMS—interim reports if required, and 1 electronic copy and 1 paper copy of the final report | 100. 100.
705(a)(3); 708; 709; 710; 712 | CVA conducts independent assessments on the fabrication and installation activities, informs lessee or grant holder if procedures are changed or design specifications are modified; and submits reports to lessee or grant holder and MMS—interim reports if required, and 1 electronic copy and 1 paper copy of the final report | 100. 100.
705(a)(3); *** 711; 712 | CVA/project engineer monitors major project modifications and repairs and submits reports to lessee or grant holder and MMS—interim reports if required, and 1 electronic copy and 1 paper copy of the final report | 20. 15.
705(b) | Request waiver of CVA requirement in writing; lessee must demonstrate standard design and best practices | 40.
706 | Submit for approval with SAP, COP, or GAP, initial nominations for a CVA or new replacement CVA nomination, and required information | 16.
708(b)(2) | Lessee or grant holder notify MMS if modifications identified by CVA/project engineer are accepted | 1.
709(a)(14); 710(a)(2), (e) ¹ | Make fabrication quality control, installation towing, and other records available to CVA/project engineer for review (retention required by § 285.714) | 1.
713(a) | Notify MMS within 10 business days after commencing commercial operations | 1.
714 ¹ | Until MMS releases financial assurance, compile, retain, and make available to MMS and/or CVA the as-built drawings, design assumptions/analyses, summary of fabrication and installation examination records, inspection results, and records of repairs not covered in inspection report. Record original and relevant material test results of all primary structural materials; retain records during all stages of construction | 100.
Subpart H—Environmental and Safety Management, Inspections, and Facility Assessments for Activities Conducted Under SAPs, COPs, and GAPs
801(c), (d) | Notify MMS if endangered or threatened species, or their designated critical habitat, may be in the vicinity of the lease or grant or may be affected by lease or grant activities | 1.
801(e), (f) | Submit information to ensure proposed activities will be conducted in compliance with the Endangered Species Act (ESA) and Marine Mammal Protection Act (MMPA); including, agreements and mitigating measures designed to avoid or minimize adverse effects and incidental take of endangered species or critical habitat | 6.
802; 902(e) | Notify MMS of archaeological resource within 72 hours of discovery | 3.
802(b) | If requested, conduct further archaeological investigations and submit report | 10.
803(d) | If applicable, submit payment for MMS costs in carrying out National Historic Preservation Act responsibilities | .5.
804(b), (c) | If required, conduct additional surveys to define boundaries and avoidance distances and submit report | 15.
810 | Submit safety management system description with the SAP, COP, or GAP | 35.
813(b)(1) | Report within 24 hours when any required safety equipment taken out of service for more than 12 hours; provide written confirmation if oral report | .5.
813(b)(2) | Submit written confirmation when equipment removed from service for greater than 60 days | 1.
813(b)(3) | Notify MMS when equipment returned to service; provide written confirmation if oral notice | .5.
815(c) | When required, analyze cable, P/L, or facility damage or failures to determine cause and as soon as available submit comprehensive written report | 1.5.
816 | Submit plan of corrective action report on observed detrimental effects on cable, P/L, or facility within 30 days of discovery; take remedial action and submit report of remedial action within 30 days after completion | 2.
822(a)(2)(iii), (b); 824(a) ¹ | Until MMS releases financial assurance, maintain records of design, construction, operation, maintenance, repairs, investigation on or related to lease or ROW/RUE area, and make available to MMS for inspection | 1.
823 | Request reimbursement within 90 days for food, quarters, and transportation provided to MMS reps during inspection | 2.
824(a) | Develop annual self inspection plan covering all facilities; retain with records, and make available to MMS upon request | 24.
824(b) | Conduct annual self inspection and submit report by November 1 | 36.
825 | Based on API RP 2A-WSD, perform assessment of structures, initiate mitigation actions for structures that do not pass assessment process, retain information, and make available to MMS upon request | 60.
830(a), (b), (c); 831 thru 833 | Immediately report incidents to MMS via oral communications, submit written follow-up report within 15 business days after the incident, and submit any required additional information | Oral—.5. Written—4.
830(d) | Report oil spills as required by part 254. | Burden covered by 1010-0091, 30 CFR part 254.
Subpart I—Decommissioning
Four **** indicate the primary cites for the reports discussed in this subpart, and the burdens include any previous or subsequent references throughout part 285 to submitting and obtaining approval. This subpart contains references to other information submissions, approvals, requests, applications, plans, etc., the burdens for which are covered elsewhere in part 285.
**** 902(b), (c), (d), (f); 905, 906; 907; 908(c); 909 | Submit for approval 1 paper copy and 1 electronic copy of the SAP, COP, or GAP decommissioning application and site clearance plan at least 2 years before decommissioning activities begin, 90 days after completion of activities, or 90 days after cancellation, relinquishment, or other termination of lease or grant. Include documentation of coordination efforts w/States, local of tribal governments, requests that certain facilities remain in place for other activities, be converted to an artificial reef, or be toppled in place. Submit additional information requested or modify and resubmit application | 20.
902(d); 908 | Notify MMS at least 60 days before commencing decommissioning activities | 1.
910 | Within 60 days after removing a facility, verify to MMS that site is cleared | 1.
912 | Within 60 days after removing a facility, cable, or pipeline, submit a written report | 8.
We don't anticipate decommissioning activities for at least 5 years so the requirements have been given a minimal burden.
Subpart J—RUEs for Energy and Marine-Related Activities Using Existing OCS Facilities
1004, 1005, 1006 | Contact owner of existing facility and/or lessee of the area to reach preliminary agreement to use facility and obtain concurring signatures; submit request to MMS for an alternative use RUE, including all required information/modifications | 1.
1007(a), (b), (c) | Submit indication of competitive interest in response to Federal Register notice | 4.
1007(c) | Submit description of proposed activities and required information in response to Federal Register notice of competitive offering | 5.
1007(f) | Lessee or owner of facility submits decision to accept or reject proposals deemed acceptable by MMS | 1.
1010(c) | Request renewal of Alternate Use RUE | 6.
1012; 1016(b) | Provide financial assurance as MMS determines in approving RUE for an existing facility, including additional security if required | 1.
1013 | Submit request for assignment of an alternative use RUE for an existing facility, including all required information | 1.
1015 | Request relinquishment of RUE for an existing facility | 1.
30 CFR Parts 250 & 290 Proposed Revisions
250.1730 | Request departure from requirement to remove a platform or other facility | Burden covered by 1010-0142, 30 CFR 250, subpart Q.
250.1731(c) | Request deferral of facility removal subject to RUE issued under this subpart | 1.
250.290.2 | Request reconsideration of an MMS decision concerning a lease bid | Requirement not considered IC under 5 CFR 1320.3(h)(9).
¹ Retention of these records is usual and customary business practice; the burden is primarily to make them available to MMS and CVAs.

Estimated Reporting and Recordkeeping Non-Hour Cost Burden: There are three non-hour cost burdens to industry. They are as follows:

• § 285.111—$4,000: This section requires respondents to pay a processing fee of $4,000 for MMS document or study preparation when necessary for MMS processing of applications and requests.

• § 285.111(b)(3)—$950,000: This section allows respondents to pay a contractor instead of MMS for all or part of any document, study, or other activity, and provide the results to MMS to reduce MMS processing costs. We estimate the non-hour cost burden of this payment could range from $100,000 to $2,000,000; therefore, we are estimating the cost at $950,000.

• § 285.417(b)—$950,000: This section requires respondents to pay for a site-specific study to evaluate the cause of harm or damage to natural resources, and submit a report to MMS. We estimate the non-hour cost burden of this study could range from $100,000 to $2,000,000, depending on the nature of the study; therefore, we are estimating the cost at $950,000.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * *”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the non-hour paperwork cost burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Procedures: Before including your address, phone number, e-mail address, or other personal identifying information in your comment, you should be aware that your entire comment—including your personal identifying information—may be made publicly available at any time. While you can ask us in your comment to withhold your personal identifying information from public review, we cannot guarantee that we will be able to do so.

MMS Information Collection Clearance Officer: Arlene Bajusz, (202) 208-7744.

Dated: September 16, 2009.
William S. Hauser,
Acting Chief, Office of Offshore Regulatory Programs.

[FR Doc. E9-22834 Filed 9-22-09; 8:45 am]

BILLING CODE 4310-MR-P